DEPARTMENT OF ENERGY

Federal Energy Regulatory Commission

[Docket No. EL10-3-001]

Citizens Sunrise Transmission LLC; Citizens Energy Corporation; Notice of Initiation of Proceeding and Refund Effective Date

On February 21, 2012, the Commission issued an order that initiated a proceeding in Docket No. EL10-3-001, pursuant to section 206 of the Federal Power Act (FPA), 16 U.S.C. 824e (2006), to determine the justness and reasonableness of the rates proposed by Citizens Sunrise. Citizens Sunrise Transmission LLC and Citizens Energy Corporation, 138 FERC ¶ 61,129 (2012).

The refund effective date in Docket No. EL10-3-001, established pursuant to section 206(b) of the FPA, will be the date of publication of this notice in the Federal Register.

Dated: February 21, 2012.
Nathaniel J. Davis, Sr.,
Deputy Secretary

[FR Doc. 2012-4436 Filed 2-24-12; 8:45 am]

BILLING CODE 6717-01-P